DEPARTMENT OF ENERGY

Federal Energy Regulatory Commission

Combined Notice of Filings # 1

September 12, 2006.

Take notice that the Commission received the following electric rate filings:

Docket Numbers: ER03-506-003.

Applicants: TXU Portfolio Management Company LP.

Description: TXU Portfolio Management Co, LP submits its triennial market power update pursuant to FERC's 8/27/03 order.

Filed Date: 08/24/2006.

Accession Number: 20060905-0258.

Comment Date: 5 p.m. Eastern Time on Thursday, September 14, 2006.

Docket Numbers: ER03-1326-006.

Applicants: Colorado Green Holdings, LLC.

Description: Colorado Green Holdings, LLC submits its triennial Updated Market Power Analysis.

Filed Date: 09/08/2006.

Accession Number: 20060912-0377.

Comment Date: 5 p.m. Eastern Time on Friday, September 29, 2006.

Docket Numbers: ER04-925-012; ER99-830-018.

Applicants: Merrill Lynch Commodities, Inc.

Description: Merrill Lynch Capital Services, Inc submits an errata to amend the 8/18/06 notice of non-material change in status under ER04-925 et al.

Filed Date: 08/30/2006.

Accession Number: 20060905-0030.

Comment Date: 5 p.m. Eastern Time on Wednesday, September 20, 2006.

Docket Numbers: ER05-795-004.

Applicants: ISO New England Inc.

Description: ISO New England Inc. submits its Regulation Clearing Price compliance filing pursuant to the Commission's 3/7/06 order.

Filed Date: 09/07/2006.

Accession Number: 20060907-5030.

Comment Date: 5 p.m. Eastern Time on Thursday, September 28, 2006.

Docket Numbers: ER06-1473-000.

Applicants: Duke Power Company LLC.

Description: Duke Power Co, LLC submits a notice of cancellation of the Large Generator Interconnection Agreement with Power Ventures Group, LLC.

Filed Date: 09/08/2006.

Accession Number: 20060912-0367.

Comment Date: 5 p.m. Eastern Time on Friday, September 29, 2006.

Docket Numbers: ER06-1474-000.

Applicants: PJM Interconnection, LLC.

Description: PJM Interconnection, LLC submits modifications to its Regional Transmission Expansion Planning Protocol under ER06-1474.

Filed Date: 09/08/2006.

Accession Number: 20060912-0368.

Comment Date: 5 p.m. Eastern Time on Friday, September 29, 2006.

Docket Numbers: ER06-1475-000.

Applicants: Avista Corporation.

Description: Avista Corp submits revisions to its Open Access Transmission Tariff, Volume 8, to be effective 11/9/06.

Filed Date: 09/08/2006.

Accession Number: 20060912-0373.

Comment Date: 5 p.m. Eastern Time on Friday, September 29, 2006.

Docket Numbers: ER06-1477-000; ER06-1478-000.

Applicants: Idaho Power Company.

Description: Idaho Power Co submits an executed version of the Caribou Transmission Interconnection Agreement with PacifiCorp.

Filed Date: 09/07/2006.

Accession Number: 20060912-0371.

Comment Date: 5 p.m. Eastern Time on Thursday, September 28, 2006.

Docket Numbers: ER06-1479-000.

Applicants: Alloy Power L.L.C.

Description: Alloy Power, LLC submits a Notice of Succession, effective 8/25/06, it succeeded to the Rate Schedule FERC No. 1 of Elkem Metals Co—Alloy, LP.

Filed Date: 09/07/2006.

Accession Number: 20060912-0372.

Comment Date: 5 p.m. Eastern Time on Thursday, September 28, 2006.

Docket Numbers: ER06-1480-000.

Applicants: Basin Electric Power Cooperative, Inc.; Black Hills Power, Inc.

Description: Black Hills Power, Inc et al. submits a revised version of Schedules 9, 10, and 12 to its Joint OAT Tariff with Power River Energy Corporation.

Filed Date: 09/07/2006.

Accession Number: 20060912-0370.

Comment Date: 5 p.m. Eastern Time on Thursday, September 28, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-15431 Filed 9-15-06; 8:45 am]

BILLING CODE 6717-01-P